DEPARTMENT OF THE INTERIOR

Bureau of Reclamation

Glen Canyon Dam Adaptive Management Work Group (AMWG)

AGENCY: Bureau of Reclamation, Interior.

ACTION: Notice of public meeting (conference call).

SUMMARY: The Adaptive Management Program (AMP) was implemented as a result of the Record of Decision on the Operation of Glen Canyon Dam Final Environmental Impact Statement to comply with consultation requirements of the Grand Canyon Protection Act (Pub. L. 102-575) of 1992. The AMP includes a federal advisory committee (AMWG), a technical work group (TWG), a monitoring and research center, and independent review panels. The AMWG makes recommendations to the Secretary of the Interior concerning Glen Canyon Dam operations and other management actions to protect resources downstream of Glen Canyon Dam consistent with the Grand Canyon Protection Act. The TWG is a subcommittee of the AMWG and provides technical advice and recommendations to the AMWG.

Dates and Addresses: The AMWG will conduct the following conference call:

Date: Tuesday, May 22, 2007. The call will begin at 12 noon (EDT), 10 a.m. (MDT) and 9 a.m. (PDT and Arizona) and conclude three (3) hours later in the respective time zones. The telephone numbers are: 1-801-524-3860 for Federal participants and 1-888-264-8816 for non-Federal participants and members of the public.

Agenda: The purpose of the meeting will be for the AMWG to receive updates and discuss the following items: (1) Roles Ad Hoc Group Report and recommendations; (2) the Beach/Habitat Building Flow Science Plan; (3) Draft Fiscal Year 2008 budget; (4) the Long-Term Experimental Plan Environmental Impact Statement; and (5) the Monitoring and Research Plan. The AMWG also will consider a motion by the TWG that recommends the Secretary of the Interior secure resources to direct the development and prompt implementation of risk assessment, education, prevention/containment, and science elements in order to limit the wide-ranging damages that may be caused by quagga mussel invasion of the Colorado River system. To view a copy of the draft agenda, please visit Reclamation's Web site at: http://www.usbr.gov/uc/rm/amp/amwg/mtgs/06may22/index.html.

Time will be allowed for any individual or organization wishing to make formal oral comments on the call. To allow for full consideration of information by the AMWG members, written notice must be provided to Dennis Kubly, Bureau of Reclamation, Upper Colorado Regional Office, 125 South State Street, Room 6107, Salt Lake City, Utah, 84138; telephone 801-524-3715; facsimile 801-524-3858; e-mail at dkubly@uc.usbr.gov at least five (5) days prior to the call. Any written comments received will be provided to the AMWG members.

FOR FURTHER INFORMATION CONTACT: Dennis Kubly, Bureau of Reclamation, telephone (801) 524-3715; facsimile (801) 524-3858; e-mail at dkubly@uc.usbr.gov.

Dated: April 30, 2007.
Dennis Kubly,
Chief, Adaptive Management Group, Environmental Resources Division, Upper Colorado Regional Office, Salt Lake City, Utah.

[FR Doc. E7-8755 Filed 5-7-07; 8:45 am]

BILLING CODE 4310-MN-P